DEPARTMENT OF HOUSING AND URBAN DEVELOPMENT

[Docket No. FR-4557-N-16]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period for 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Ms. Shirley Middleswarth, Army Corps of Engineers, Management & Disposal Division, Pulaski Bldg., Room 4224, 20 Massachusetts Avenue, NW, Washington, DC 20314-1000; (202) 761-0515; GSA: Mr. Brian K. Polly, Assist Commissioner, General Services Administration, Office of Property Disposal, 18th and F Streets, NW, Washington, DC 20405; (202) 501-0052; INTERIOR: Mr. Al Barth, Property Management, Department of the Interior, 1849 C Street, NW, Mail Stop 5512-MIB, Washington, DC 20240; (202) 208-7283; NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: April 14, 2000.
Fred Karnas, Jr.,
Deputy Assistant Secretary for Special Needs Assistance Programs.

Title V, Federal Surplus Property Program Federal Register Report for 4/21/00

Suitable/Available Properties

Building (by State)

California

Bldg. 4156

Tract 12-135

National Park Land

Yosemite Co: Mariposa CA 95389-

Landholding Agency: Interior

Property Number: 61200020001

Status: Unutilized

Comment: 499 sq. ft. seasonal housing, off-site use only

Mississippi

Quarters #193

Jeff Busby Park

Rt. 3

Ackerman Co: Choctaw MS 39725-

Landholding Agency: Interior

Property Number: 61200020015

Status: Unutilized

Comment: 1121 sq. ft., presence of asbestos, most recent use—residence, off-site use only

New York

Former RPH Property

Tract 273-01

E. Fishkill Town Co: Dutchess NY 10701-

Landholding Agency: Interior

Property Number: 61200020002

Status: Unutilized

Comment: garage, 748 sq. ft./concrete block, off-site use only

Pennsylvania

(F) Romig Property

Tract 367-10, Kuhn Road

Boiling Springs Co: Cumberland PA 17007-

Landholding Agency: Interior

Property Number: 61200020014

Status: Unutilized

Comment: 665 sq. ft., most recent use—residence, off-site use only

Tennessee

Naval Hospital

5720 Integrity Drive

Millington Co: Shelby TN 38054-

Location: Bldgs, 98, 100, 103, 105, 111, 114, 116, 117, 118

Landholding Agency: GSA

Property Number: 54200020005

Status: Excess

Comment: 9 bldgs., various sq. ft., need major rehab

GSA Number: 4-N-TN-648

West Virginia

Residence/Garage

109 Pine Street

Monongahela National Forest

Petersburg Co: Grant WV 26847-

Landholding Agency: GSA

Property Number: 54200020006

Status: Excess

Comment: 1800 sq. ft. residence, 365 sq. ft. garage, good condition

GSA Number: 4-A-WV-534

Suitable/Available Properties

Land (by State)

Pennsylvania

Portion of Tract 119

State Rt 969

Curwensville Co: Clearfield PA 16833-

Landholding Agency: COE

Property Number: 31200010005

Status: Unutilized

Comment: approx. 17 acres, hilly wooded terrain

Unsuitable Properties

Buildings (by State)

California

Bldg. 4159

Tract 12-135

National Park Land

Yosemite Co: Mariposa CA 95389-

Landholding Agency: Interior

Property Number: 61200020003

Status: Unutilized

Reason: Extensive deterioration

Bldg. 4160

Tract 12-135

National Park Land

Yosemite Co: Mariposa CA 95389-

Landholding Agency: Interior

Property Number: 61200020004

Status: Unutilized

Reason: Extensive deterioration

Bldg. 4161

Tract 12-135

National Park Land

Yosemite Co: Mariposa CA 95389-

Landholding Agency: Interior

Property Number: 61200020005

Status: Unutilized

Reason: Extensive deterioration

Bldgs. 4091, 4092

Tract 08-136

National Park Land

Yosemite Co: Mariposa CA 95389-

Landholding Agency: Interior

Property Number: 61200020006

Status: Unutilized

Reason: Extensive deterioration

Vagim House/Garage/Laundry

Tract 08-155

National Park Land

Yosemite Co: Mariposa CA 95389-

Landholding Agency: Interior

Property Number: 61200020007

Status: Unutilized

Reason: Extensive deterioration

Bldg. 4166

Tract 05-118

National Park Land

Yosemite Co: Mariposa CA 95389-

Landholding Agency: Interior

Property Number: 61200020008

Status: Unutilized

Reason: Extensive deterioration

Bldg. 4077

Tract 08-118

National Park Land

Yosemite Co: Mariposa CA 95389-

Landholding Agency: Interior

Property Number: 61200020009

Status: Unutilized

Reason: Extensive deterioration

“Putnam House”

Yosemite National Park

Wawona Co: Mariposa CA 95389-

Landholding Agency: Interior

Property Number: 61200020016

Status: Unutilized

Reasons: Extensive deterioration

Bldg. 17A

Marine Corps Logistics Base

Barstow Co: San Bernardino CA 92311-

Landholding Agency: Navy

Property Number: 77200020001

Status: Unutilized

Reasons: Secured Area, Extensive deterioration

Georgia

Range Rear Light

Blythe Island

Brunswick Co: Glynn GA 31525-

Landholding Agency: GSA

Property Number: 54200020001

Status: Excess

Reason: Extensive deterioration

GSA Number: 4-U-GA-863

Federal Bldg.

202 North Harris St.

Sandersville Co: GA 31082-

Landholding Agency: GSA

Property Number: 54200020002

Status: Excess

Reason: Within airport runway clear zone

GSA Number: 4-G-GA-862

Massachusetts

Petricca House

97 North Great Road

Lincoln Co: Middlesex MA 01773-

Landholding Agency: Interior

Property Number: 61200020010

Status: Unutilized

Reason: Extensive deterioration

Willow Pond Kitchen

751 Lexington Road

Concord Co: Middlesex MA 01742-

Landholding Agency: Interior

Property Number: 61200020017

Status: Unutilized

Reason: Extensive deterioration

Schlberg House

44 Virginia Road

Lincoln Co: Middlesex MA 00000-

Landholding Agency: Interior

Property Number: 61200020018

Status: Unutilized

Reason: Extensive deterioration

Nelson House

47 Virginia Road

Lincoln Co: Middlesex MA 00000-

Landholding Agency: Interior

Property Number: 61200020019

Status: Unutilized

Reason: Extensive deterioration

Michigan

Federal Bldg.

Benton Harbor

174/5 Territorial Road

Benton Harbor Co: Berrien MI 49022-

Landholding Agency: GSA

Property Number: 54200020003

Status: Excess

Reason: Within 2000 ft. of flammable or explosive material

GSA Number: 1-G-MI-796

Minnesota

Nike Battery Site, MS-40

Castle Rock Township

Farmington Co: Dakota MN 00000-

Landholding Agency: GSA

Property Number: 54200020004

Status: Surplus

Reason: Within 2000 ft. of flammable or explosive material

GSA Number: 1-I-MN-451-B

New York

Former Baker Property

Tract 270-19

Beekman Co: Dutchess NY 12570-

Landholding Agency: Interior

Property Number: 61200020011

Status: Unutilized

Reason: Extensive deterioration

(F) Depot Hill Property

Tract 270-07

Beekman Co: Dutchess NY 12564-

Landholding Agency: Interior

Property Number: 61200020012

Status: Unutilized

Reason: Extensive deterioration

(F) Yegella Property

Tract #268-33

Pawling Co: Dutchess NY 12564-

Landholding Agency: Interior

Property Number: 61200020013

Status: Unutilized

Reason: Extensive deterioration

North Carolina

Bldg. BA114

Marine Corps Base

Camp Lejeune Co: Onslow NC 28542-0004

Landholding Agency: Navy

Property Number: 77200020003

Status: Unutilized

Reason: Extensive deterioration

Bldg. H16

Marine Corps Base

Camp Lejeune Co: Onslow NC 28542-0004

Landholding Agency: Navy

Property Number: 77200020004

Status: Unutilized

Reason: Extensive deterioration

Bldg. TC816

Marine Corps Base

Camp Lejeune Co: Onslow NC 28542-0004

Landholding Agency: Navy

Property Number: 77200020005

Status: Unutilized

Reason: Extensive deterioration

Bldg. TC818

Marine Corps Base

Camp Lejeune Co: Onslow NC 28542-0004

Landholding Agency: Navy

Property Number: 77200020006

Status: Unutilized

Reason: Extensive deterioration

Bldg. SM145

Marine Corps Base

Camp Lejeune Co: Onslow NC 28542-0004

Landholding Agency: Navy

Property Number: 77200020007

Status: Unutilized

Reason: Extensive deterioration

Bldg. BA113

Marine Corps Base

Camp Lejeune Co: Onslow NC 28542-0004

Landholding Agency: Navy

Property Number: 77200020008

Status: Unutilized

Reason: Extensive deterioration

Pennsylvania

Tract 105-03

Beach Lake Co: Wayne PA 18405-9737

Landholding Agency: Interior

Property Number: 61200020020

Status: Excess

Reason: Extensive deterioration

Virginia

Bldg. 7

Naval Weapons Station

Yorktown Co: VA 23691-

Landholding Agency: Navy

Property Number: 77200020009

Status: Unutilized

Reasons: Within 2000 ft. of flammable or explosive material, Secured Area

Bldg. 12

Naval Weapons Station

Yorktown Co: VA 23691-

Landholding Agency: Navy

Property Number: 77200020010

Status: Unutilized

Reasons: Within 2000 ft. of flammable or explosive material, Secured Area, Extensive deterioration

Bldg. 24

Naval Weapons Station

Yorktown Co: VA 23691-

Landholding Agency: Navy

Property Number: 77200020011

Status: Unutilized

Reasons: Within 2000 ft. of flammable or explosive material, Secured Area

Bldg. 34

Naval Weapons Station

Yorktown Co: VA 23691-

Landholding Agency: Navy

Property Number: 77200020012

Status: Unutilized

Reasons: Within 2000 ft. of flammable or explosive material, Secured Area, Extensive deterioration

Bldg. 108

Naval Weapons Station

Yorktown Co: VA 23691-

Landholding Agency: Navy

Property Number: 77200020013

Status: Unutilized

Reasons: Within 2000 ft. of flammable or explosive material, Secured Area, Extensive deterioration

Bldg. 299

Naval Weapons Station

Yorktown Co: VA 23691-

Landholding Agency: Navy

Property Number: 77200020014

Status: Unutilized

Reasons: Within 2000 ft. of flammable or explosive material, Secured Area, Extensive deterioration

Bldg. 400

Naval Weapons Station

Yorktown Co: VA 23691-

Landholding Agency: Navy

Property Number: 77200020015

Status: Unutilized

Reasons: Within 2000 ft. of flammable or explosive material, Secured Area, Extensive deterioration

Bldg. 436

Naval Weapons Station

Yorktown Co: VA 23691-

Landholding Agency: Navy

Property Number: 77200020016

Status: Unutilized

Reasons: Within 2000 ft. of flammable or explosive material, Secured Area, Extensive deterioration

Bldgs. 442, 443

Naval Weapons Station

Yorktown Co: VA 23691-

Landholding Agency: Navy

Property Number: 77200020017

Status: Unutilized

Reasons: Within 2000 ft. of flammable or explosive material, Secured Area, Extensive deterioration

Bldg. 530

Naval Weapons Station

Yorktown Co: VA 23691-

Landholding Agency: Navy

Property Number: 77200020018

Status: Unutilized

Reasons: Within 2000 ft. of flammable or explosive material, Secured Area, Extensive deterioration

Bldg. 532

Naval Weapons Station

Yorktown Co: VA 23691-

Landholding Agency: Navy

Property Number: 77200020019

Status: Unutilized

Reasons: Within 2000 ft. of flammable or explosive material, Secured Area, Extensive deterioration

Bldgs. 646-651

Naval Weapons Station

Yorktown Co: VA 23691-

Landholding Agency: Navy

Property Number: 77200020020

Status: Unutilized

Reasons: Within 2000 ft. of flammable or explosive material, Secured Area, Extensive deterioration

Bldgs. 758, 759

Naval Weapons Station

Yorktown Co: VA 23691-

Landholding Agency: Navy

Property Number: 77200020021

Status: Unutilized

Reasons: Within 2000 ft. of flammable or explosive material, Secured Area, Extensive deterioration

Bldg. 764

Naval Weapons Station

Yorktown Co: VA 23691-

Landholding Agency: Navy

Property Number: 77200020022

Status: Unutilized

Reasons: Within 2000 ft. of flammable or explosive material, Secured Area, Extensive deterioration

Bldg. 784

Naval Weapons Station

Yorktown Co: VA 23691-

Landholding Agency: Navy

Property Number: 77200020023

Status: Unutilized

Reasons: Within 2000 ft. of flammable or explosive material, Secured Area, Extensive deterioration

Bldg. 786

Naval Weapons Station

Yorktown

Yorktown Co: VA 23691-

Landholding Agency: Navy

Property Number: 77200020024

Status: Unutilized

Reasons: Within 2000 ft. of flammable or explosive material, Secured Area, Extensive deterioration

Bldg. 788

Naval Weapons Station

Yorktown Co: VA 23691-

Landholding Agency: Navy

Property Number: 77200020025

Status: Unutilized

Reasons: Within 2000 ft. of flammable or explosive material, Secured Area, Extensive deterioration

Bldg. 790

Naval Weapons Station

Yorktown Co: VA 23691-

Landholding Agency: Navy

Property Number: 77200020026

Status: Unutilized

Reasons: Within 2000 ft. of flammable or explosive material, Secured Area, Extensive deterioration

Bldg. 814

Naval Weapons Station

Yorktown Co: VA 23691-

Landholding Agency: Navy

Property Number: 77200020027

Status: Unutilized

Reasons: Within 2000 ft. of flammable or explosive material, Secured Area, Extensive deterioration

Bldgs. 1955-1957

Naval Weapons Station

Yorktown Co: VA 23691-

Landholding Agency: Navy

Property Number: 77200020028

Status: Unutilized

Reasons: Within 2000 ft. of flammable or explosive material, Secured Area, Extensive deterioration

Bldgs. 1960, 1961, 1964

Naval Weapons Station

Yorktown Co: VA 23691-

Landholding Agency: Navy

Property Number: 77200020029

Status: Unutilized

Reasons: Within 2000 ft. of flammable or explosive material, Secured Area, Extensive deterioration

Bldgs. 1980, 1981

Naval Weapons Station

Yorktown Co: VA 23691-

Landholding Agency: Navy

Property Number: 77200020030

Status: Unutilized

Reasons: Within 2000 ft. of flammable or explosive material, Secured Area, Extensive deterioration

Bldg. 160

Cheatham Annex

Williamsburg Co: VA 23185-5830

Landholding Agency: Navy

Property Number: 77200020031

Status: Unutilized

Reasons: Secured Area, Extensive deterioration

Bldg. 3023

Naval Amphibious Base

Norfold Co: VA 23521-3229

Landholding Agency: Navy

Property Number: 77200020032

Status: Excess

Reason: Extensive deterioration

Facility 3063

Naval Amphibious Base

Norfold Co: VA 23521-3229

Landholding Agency: Navy

Property Number: 77200020033

Status: Unutilized

Reasons: Extensive deterioration

Land (by State)

Washington

0.7 acres

Coulee Dam/Switching Station

Nespelem Co: Okanogan WA

Landholding Agency: Interior

Property Number: 61200020021

Status: Excess

Reasons: Within 2000 ft. of flammable or explosive material

[FR Doc. 00-9775 Filed 4-20-00; 8:45 am]

BILLING CODE 4210-29-M